OFFICE OF PERSONNEL MANAGEMENT

5 CFR Part 532

RIN 3206-AL77

Prevailing Rate Systems; Redefinition of Certain Appropriated Fund Federal Wage System Wage Areas

AGENCY: U.S. Office of Personnel Management.

ACTION: Proposed rule with request for comments.

SUMMARY: The U.S. Office of Personnel Management (OPM) is issuing a proposed rule that would redefine the geographic boundaries of several appropriated fund Federal Wage System wage areas for pay-setting purposes. Based on recent reviews of Metropolitan Statistical Area boundaries in a number of wage areas, OPM proposes redefinitions affecting the following wage areas: Birmingham, AL; Denver, CO; Wilmington, DE; Washington, DC; Atlanta, GA; Columbus, GA; Macon, GA; Chicago, IL; Bloomington-Bedford-Washington, IN; Indianapolis, IN; Louisville, KY; Baltimore, MD; Hagerstown-Martinsburg-Chambersburg, MD; St. Louis, MO; Southern Missouri; Omaha, NE; New York, NY; Philadelphia, PA; Scranton-Wilkes-Barre, PA; Eastern South Dakota; Richmond, VA; and Milwaukee, WI.

DATES: We must receive comments on or before February 13, 2009.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the geographic boundaries of several appropriated fund Federal Wage System (FWS) wage areas. These changes are based on recommendations of the Federal Prevailing Rate Advisory Committee (FPRAC), the statutory national labor-management committee responsible for advising OPM on matters affecting the pay of FWS employees. From time to time, FPRAC reviews the boundaries of wage areas and provides OPM with recommendations for changes if the Committee finds that changes are warranted.

There are currently 132 FWS wage areas in the United States and the Commonwealth of Puerto Rico for blue-collar employees who are paid from appropriated funds. Each wage area is comprised of a survey area where a lead agency, the Department of Defense, measures local prevailing wage levels in a local labor market. Because it is not feasible to include every part of the United States in a survey area, those parts that are not in a survey area are combined with a nearby survey area to form a wage area's area of application.

OPM considers the following regulatory criteria under 5 CFR 532.211 when defining FWS wage area boundaries:

1. Distance, transportation facilities, and geographic features;

2. Commuting patterns; and

3. Similarities in overall population, employment, and the kinds and sizes of private industrial establishments.

In addition, OPM regulations at 5 CFR 532.211 do not permit splitting Metropolitan Statistical Areas (MSAs) for the purpose of defining a wage area, except in very unusual circumstances (e.g., organizational relationships among closely located Federal activities).

The Office of Management and Budget defines MSAs and maintains and updates the definitions of MSA boundaries following each decennial census. MSAs are composed of counties and are defined on the basis of a central urbanized area-a contiguous area of relatively high population density. Additional surrounding counties are included in MSAs if they have strong social and economic ties to central counties.

When the boundaries of wage areas were first established in the 1960s, there were fewer MSAs than there are today and the boundaries of the then existing MSAs were much smaller. Most MSAs were contained within the boundaries of a wage area. MSAs have expanded each decade and in some cases now extend beyond the boundaries of the wage area.

FPRAC recently reviewed several wage areas where boundaries subdivide certain MSAs and concurred by consensus with the changes described in this proposed rule. These changes would be effective on the first day of the first applicable pay period beginning on or after 30 days following publication of the final regulations. FPRAC recommended no other changes in the geographic definitions of the wage areas.

Birmingham-Hoover, AL MSA: Bibb, Blount, Chilton, Jefferson, St. Clair, Shelby, and Walker Counties, AL, comprise the Birmingham-Hoover, AL MSA. Jefferson, St. Clair, Shelby, and Walker Counties are part of the Birmingham survey area, Bibb and Blount Counties are part of the Birmingham area of application, and Chilton County is part of the Columbus area of application. OPM proposes to redefine Chilton County to the Birmingham area of application so that the entire Birmingham-Hoover, AL MSA is in one wage area. There are currently no FWS employees working in Chilton County.

Denver-Aurora, CO MSA: Adams, Arapahoe, Broomfield, Clear Creek, Denver, Douglas, Elbert, Gilpin, Jefferson, and Park Counties, CO, comprise the Denver-Aurora, CO MSA. Adams, Arapahoe, Denver, Douglas, Gilpin, and Jefferson Counties are part of the Denver, CO, survey area and Clear Creek, Elbert, and Park are part of the Denver area of application. Broomfield County is currently undefined.

The municipality of Broomfield was incorporated in 1961 in the southeastern corner of Boulder County, CO. On November 15, 2001, Broomfield County officially separated from Boulder County and became the 64th county of Colorado. The boundaries of the City of Broomfield and the County of Broomfield are identical.

OPM proposes to define Broomfield County as part of the Denver survey area. There are three FWS employees working in Broomfield County.

Washington-Arlington-Alexandria, DC-MD-VA-WV MSA: Washington, DC; Calvert, Charles, Frederick, Montgomery, and Prince George's Counties, MD; Arlington, Clarke, Fairfax, Fauquier, Loudoun, Prince William, Spotsylvania, Stafford, and Warren Counties, VA; Alexandria, Fairfax, Falls Church, Fredericksburg, Manassas, and Manassas Park Cities, VA; and Jefferson County, WV, comprise the Washington-Arlington-Alexandria, DC-MD-VA-WV MSA. Washington, DC; Charles, Frederick, Montgomery, and Prince George's Counties, MD; Arlington, Fairfax, Loudoun, and Prince William Counties, VA; and Alexandria, Fairfax, Falls Church, Manassas, and Manassas Park Cities, VA; are part of the Washington survey area. Calvert and St. Mary's Counties, MD, and Fauquier, King George, and Stafford Counties, VA, are part of the Washington area of application. Spotsylvania County and Fredericksburg City, VA, are part of the Richmond area of application. Clarke and Warren Counties, VA, and Jefferson County, WV, are part of the Hagerstown-Martinsburg-Chambersburg area of application. OPM proposes to redefine Clarke, Spotsylvania, and Warren Counties, VA, Fredericksburg City, VA, and Jefferson County, WV, to the Washington area of application so that the entire Washington-Arlington-Alexandria, DC-MD-VA-WV MSA is in one wage area. There are no FWS employees working in Clarke and Spotsylvania Counties, but there are 31 FWS employees working in Warren County, 9 FWS employees working in Fredericksburg City, and 50 FWS employees working in Jefferson County.

Atlanta-Sandy Springs-Marietta, GA MSA: Barlow, Barrow, Butts, Carroll, Cherokee, Clayton, Cobb, Coweta, Dawson, DeKalb, Douglas, Fayette, Forsyth, Fulton, Gwinnett, Haralson, Heard, Henry, Jasper, Lamar, Meriwether, Newton, Paulding, Pickens, Pike, Rockdale, Spalding, and Walton Counties, GA, comprise the Atlanta-Sandy Springs-Marietta, GA MSA. Butts, Cherokee, Clayton, Cobb, DeKalb, Douglas, Fayette, Forsyth, Fulton, Gwinnett, Henry, Newton, Paulding, Rockdale, and Walton Counties are part of the Atlanta survey area; Bartow, Barrow, Carroll, Coweta, Dawson, Haralson, Heard, Pickens, Pike, and Spalding Counties are part of the Atlanta area of application; Jasper and Lamar Counties are part of the Macon area of application; and Meriwether County is part of the Columbus area of application. OPM proposes to redefine Jasper, Lamar, and Meriwether Counties to the Atlanta area of application so that the entire Atlanta-Sandy Springs-Marietta, GA MSA is in one wage area. There are no FWS employees working in Jasper and Lamar Counties, but there is one FWS employee working in Meriwether County.

Chicago-Naperville-Joliet, IL-IN-WI MSA: Cook, DeKalb, DuPage, Grundy, Kane, Kendall, McHenry, and Will Counties, IL; Jasper, Lake, Newton, and Porter Counties, IN; and Lake and Kenosha Counties, WI, comprise the Chicago-Naperville-Joliet, IL-IN-WI MSA. Cook, DuPage, Kane, McHenry, and Will Counties, IL, and Lake County, WI, are part of the Chicago survey area; DeKalb, Grundy, and Kendall, IL, and Jasper, Lake, Newton, and Porter Counties, IN, are part of the Chicago area of application; and Kenosha County, WI, is part of the Milwaukee area of application. OPM proposes to redefine Kenosha County to the Chicago area of application so that the entire Chicago-Naperville-Joliet, IL-IN-WI MSA is in one wage area. There are six FWS employees working in Kenosha County.

Indianapolis, IN MSA: Boone, Brown, Hamilton, Hancock, Hendricks, Johnson, Marion, Morgan, Putnam, and Shelby Counties, IN, comprise the Indianapolis, IN MSA. Boone, Hamilton, Hancock, Hendricks, Johnson, Marion, Morgan, and Shelby Counties are part of the Indianapolis survey area; Putnam County is part of the Indianapolis area of application; and Brown County is part of the Bloomington-Bedford-Washington area of application. OPM proposes to redefine Brown County to the Indianapolis area of application so that the entire Indianapolis, IN MSA is in one wage area. There are no FWS employees working in Brown County.

Sioux City, IA-NE-SD MSA: Woodbury County, IA, Dakota and Dixon Counties, NE, and Union County, SD, comprise the Sioux City, IA-NE-SD MSA. Woodbury County, IA, and Dakota and Dixon Counties, NE, are part of the Omaha area of application and Union County, SD, is part of the Eastern South Dakota area of application. OPM proposes to redefine Union County to the Omaha area of application so that the entire Sioux City, IA-NE-SD MSA is in one wage area. There are no FWS employees working in Union County.

Louisville, KY-IN MSA: Clark, Floyd, Harrison, and Washington County, IN, and Bullitt, Henry, Jefferson, Meade, Nelson, Oldham, Shelby, Spencer, and Trimble Counties, KY, comprise the Louisville, KY-IN MSA. Clark, and Floyd Counties, IN, and Bullitt, Jefferson, and Oldham Counties, KY, are part of the Louisville survey area; Harrison County, IN, and Henry, Meade, Nelson, Shelby, Spencer, and Trimble Counties, KY, are part of the Louisville area of application; and Washington County, IN, is part of the Bloomington-Bedford-Washington area of application. OPM proposes to redefine Washington County to the Louisville area of application so that the entire Louisville, KY-IN MSA is in one wage area. There are no FWS employees working in Washington County.

Baltimore-Towson, MD MSA: Anne Arundel, Baltimore, Carroll, Harford, Howard, and Queen Anne's Counties, MD, and Baltimore City, MD, comprise the Baltimore-Towson, MD MSA. Anne Arundel, Baltimore, Carroll, Harford, and Howard Counties and Baltimore City are part of the Baltimore survey area and Queen Anne's County is part of the Wilmington area of application. OPM proposes to redefine Queen Anne's County to the Baltimore area of application so that the entire Baltimore-Towson, MD MSA is in one wage area. There are no FWS employees working in Queen Anne's County.

Jefferson City, MO MSA: Callaway, Cole, Moniteau, and Osage Counties, MO, comprise the Jefferson City, MO MSA. Callaway, Cole, and Osage Counties are part of the St. Louis area of application and Moniteau County is part of the Southern Missouri area of application. OPM proposes to redefine Moniteau County to the St. Louis area of application so that the entire Jefferson City, MO MSA is in one wage area. There are no FWS employees working in Moniteau County.

New York-Newark-Edison, NY-NJ-PA MSA: Bergen, Essex, Hudson, Hunterdon, Middlesex, Monmouth, Morris, Ocean, Passaic, Somerset, Sussex, and Union Counties, NJ; Bronx, Kings, Nassau, New York, Putnam, Queens, Richmond, Rockland, Suffolk, and Westchester Counties, NY; and Pike County, PA, comprise the New York-Newark-Edison, NY-NJ-PA MSA. Bergen, Essex, Hudson, Middlesex, Morris, Passaic, Somerset, and Union Counties, NJ, and Bronx, Kings, Nassau, New York, Queens, Suffolk, and Westchester Counties, NY, are part of the New York survey area. Monmouth, Ocean (excluding the Fort Dix Military Reservation), and Sussex Counties, NJ, and Putnam, Richmond, and Rockland Counties, NY, are part of the New York area of application. Hunterdon County, NJ, is part of the Philadelphia area of application and Pike County, PA, is part of the Scranton-Wilkes-Barre area of application. OPM proposes to redefine Hunterdon County, NJ, and Pike County, PA, to the New York area of application so that the entire New York-Newark-Edison, NY-NJ-PA MSA is in one wage area. There are no FWS employees working in Hunterdon County, but there are five FWS employees working in Pike County.

Allentown-Bethlehem-Easton, PA-NJ MSA: Warren County, NJ, and Carbon, Lehigh, and Northampton Counties, PA, comprise the Allentown-Bethlehem-Easton, PA-NJ MSA. Warren County, NJ, and Lehigh and Northampton Counties, PA are part of the Philadelphia area of application and Carbon County, PA, is part of the Scranton-Wilkes-Barre area of application. OPM proposes to redefine Carbon County to the Philadelphia area of application so that the entire Allentown-Bethlehem-Easton, PA-NJ MSA is in one wage area. There are three FWS employees working in Carbon County.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Michael W. Hager,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for Birmingham, AL; Denver, CO; Wilmington, DE; Washington, DC; Atlanta, GA; Columbus, GA; Macon, GA; Chicago, IL; Bloomington-Bedford-Washington, IN; Indianapolis, IN; Louisville, KY; Baltimore, MD; Hagerstown-Martinsburg-Chambersburg, MD; St. Louis, MO; Southern Missouri; Omaha, NE; New York, NY; Philadelphia, PA; Scranton-Wilkes-Barre, PA; Eastern South Dakota; Richmond, VA; and Milwaukee, WI, to read as follows:

APPENDIX C TO SUBPART B OF PART 532—APPROPRIATED FUND WAGE AND SURVEY AREAS

* * * * *

ALABAMA

* * * * *

Birmingham

Survey Area

Alabama:

Jefferson

St. Clair

Shelby

Tuscaloosa

Walker

Area of Application. Survey Area Plus

Alabama:

Bibb

Blount

Chilton

Cullman

Fayette

Greene

Hale

Lamar

Marengo

Perry

Pickens

* * * * *

COLORADO

Denver

Survey Area

Colorado:

Adams

Arapahoe

Boulder

Broomfield

Denver

Douglas

Gilpin

Jefferson

Area of Application. Survey Area Plus

Colorado:

Clear Creek

Eagle

Elbert

Garfield

Grand

Jackson

Lake

Larimer

Logan

Morgan

Park

Phillips

Pitkin

Rio Blanco

Routt

Sedgwick

Summit

Washington

Weld

Yuma

* * * * *

DELAWARE

Wilmington

Survey Area

Delaware:

Kent

New Castle

Maryland:

Cecil

New Jersey:

Salem

Area of Application. Survey Area Plus

Delaware:

Sussex

Maryland:

Caroline

Dorchester

Kent

Somerset

Talbot

Wicomico

Worcester (Does not include the Assateague Island portion.)

* * * * *

DISTRICT OF COLUMBIA

Washington, DC

Survey Area

District of Columbia:

Washington, DC

Maryland:

Charles

Frederick

Montgomery

Prince George's

Virginia (cities):

Alexandria

Fairfax

Falls Church

Manassas

Manassas Park

Virginia (counties):

Arlington

Fairfax

Loudoun

Prince William

Area of Application. Survey Area Plus

Maryland:

Calvert

St. Mary's

Virginia (city):

Fredericksburg

Virginia (counties):

Clarke

Fauquier

King George

Spotsylvania

Stafford

Warren

West Virginia:

Jefferson

* * * * *

GEORGIA

* * * * *

Atlanta

Survey Area

Georgia:

Butts

Cherokee

Clayton

Cobb

De Kalb

Douglas

Fayette

Forsyth

Fulton

Gwinnett

Henry

Newton

Paulding

Rockdale

Walton

Area of Application. Survey Area Plus

Georgia:

Banks

Barrow

Bartow

Carroll

Chattooga

Clarke

Coweta

Dawson

Fannin

Floyd

Franklin

Gilmer

Gordon

Greene

Habersham

Hall

Haralson

Heard

Jackson

Jasper

Lamar

Lumpkin

Madison

Meriwether

Morgan

Murray

Oconee

Oglethorpe

Pickens

Pike

Polk

Rabun

Spalding

Stephens

Towns

Union

White

Whitfield

* * * * *

Columbus

Survey Area

Georgia (counties):

Chattahoochee

Georgia (consolidated government):

Columbus

Alabama:

Autauga

Elmore

Lee

Macon

Montgomery

Russell

Area of Application. Survey Area Plus

Georgia:

Harris

Marion

Quitman

Schley

Stewart

Talbot

Taylor

Webster

Alabama:

Bullock

Butler

Chambers

Coosa

Crenshaw

Dallas

Lowndes

Pike

Tallapoosa

Wilcox

Macon

Survey Area

Georgia:

Bibb

Houston

Jones

Laurens

Twiggs

Wilkinson

Area of Application. Survey Area Plus

Georgia:

Baldwin

Bleckley

Crawford

Crisp

Dodge

Dooly

Hancock

Johnson

Macon

Monroe

Montgomery

Peach

Pulaski

Putnam

Telfair

Treutlen

Upson

Washington

Wheeler

Wilcox

* * * * *

ILLINOIS

* * * * *

Chicago

Survey Area

Illinois:

Cook

Du Page

Kane

Lake

McHenry

Will

Area of Application. Survey Area Plus

Illinois:

Boone

De Kalb

Grundy

Iroquois

Kankakee

Kendall

La Salle

Lee

Livingston

Ogle

Stephenson

Winnebago

Indiana:

Benton

Jasper

Lake

La Porte

Newton

Porter

Pulaski

Starke

Wisconsin:

Kenosha

INDIANA

Bloomington-Bedford-Washington

Survey Area

Indiana:

Daviess

Greene

Knox

Lawrence

Martin

Monroe

Orange

Area of Application. Survey Area Plus

Indiana:

Crawford

Dubois

Gibson

Jackson

Owen

Perry

Pike

Posey

Spencer

Vanderburgh

Warrick

Illinois:

Edwards

Gallatin

Hardin

Lawrence

Richland

Wabash

White

Kentucky:

Crittenden

Daviess

Hancock

Henderson

Livingston

McLean

Ohio

Union

Webster

* * * * *

Indianapolis

Survey Area

Indiana:

Boone

Hamilton

Hancock

Hendricks

Johnson

Marion

Morgan

Shelby

Area of Application. Survey Area Plus

Indiana:

Bartholomew

Brown

Clay

Clinton

Decatur

Delaware

Fayette

Fountain

Henry

Madison

Montgomery

Parke

Putnam

Rush

Sullivan

Tippecanoe

Tipton

Vermillion

Vigo

Warren

* * * * *

KENTUCKY

* * * * *

Louisville

Survey Area

Kentucky:

Bullitt

Hardin

Jefferson

Oldham

Indiana:

Clark

Floyd

Jefferson

Area of Application. Survey Area Plus

Kentucky:

Breckinridge

Grayson

Hart

Henry

Larue

Meade

Nelson

Shelby

Spencer

Trimble

Indiana:

Harrison

Jennings

Scott

Washington

* * * * *

MARYLAND

* * * * *

Baltimore

Survey Area

Maryland:

Baltimore City

Anne Arundel

Baltimore

Carroll

Harford

Howard

Area of Application. Survey Area Plus

Maryland:

Queen Anne's

Hagerstown-Martinsburg-Chambersburg

Survey Area

Maryland:

Washington

Pennsylvania:

Franklin

West Virginia:

Berkeley

Area of Application. Survey Area Plus

Maryland:

Allegany

Garrett

Pennsylvania:

Fulton

Virginia (cities):

Harrisonburg

Winchester

Virginia (counties):

Culpeper

Frederick

Greene

Madison

Page

Rappahannock

Rockingham

Shenandoah

West Virginia:

Hampshire

Hardy

Mineral

Morgan

* * * * *

MISSOURI

St. Louis

Survey Area

Missouri:

St. Louis City

Franklin

Jefferson

St. Charles

St. Louis

Illinois:

Clinton

Madison

Monroe

St. Clair

Area of Application. Survey Area Plus

Missouri:

Audrain

Boone

Callaway

Clark

Cole

Crawford

Gasconade

Knox

Lewis

Lincoln

Marion

Moniteau

Monroe

Montgomery

Osage

Pike

Ralls

Randolph

St. Francois

Ste. Genevieve

Scotland

Shelby

Warren

Washington

Illinois:

Alexander

Bond

Calhoun

Clay

Effingham

Fayette

Franklin

Greene

Hamilton

Jackson

Jefferson

Jersey

Johnson

Macoupin

Marion

Massac

Montgomery

Morgan

Perry

Pike

Pope

Pulaski

Randolph

Saline

Scott

Union

Washington

Wayne

Williamson

Southern Missouri

Survey Area

Missouri:

Christian

Greene

Laclede

Phelps

Pulaski

Webster

Area of Application. Survey Area Plus

Missouri:

Barry

Barton

Benton

Bollinger

Butler

Camden

Cape Girardeau

Carter

Cedar

Dade

Dallas

Dent

Douglas

Hickory

Howell

Iron

Jasper

Lawrence

McDonald

Madison

Maries

Miller

Mississippi

Morgan

New Madrid

Newton

Oregon

Ozark

Perry

Polk

Reynolds

Ripley

St. Clair

Scott

Shannon

Stoddard

Stone

Taney

Texas

Vernon

Wayne

Wright

Kansas:

Cherokee

Crawford

* * * * *

NEBRASKA

Omaha

Survey Area

Nebraska:

Douglas

Lancaster

Sarpy

Iowa:

Pottawattamie

Area of Application. Survey Area Plus

Nebraska:

Adams

Antelope

Arthur

Blaine

Boone

Boyd

Brown

Buffalo

Burt

Butler

Cass

Cedar

Chase

Cherry

Clay

Colfax

Cuming

Custer

Dakota

Dawson

Dixon

Dodge

Dundy

Fillmore

Franklin

Frontier

Furnas

Gage

Garfield

Gosper

Grant

Greeley

Hall

Hamilton

Harlan

Hayes

Hitchcock

Holt

Hooker

Howard

Jefferson

Johnson

Kearney

Keith

Keya Paha

Knox

Lincoln

Logan

Loup

McPherson

Madison

Merrick

Nance

Nemaha

Nuckolls

Otoe

Pawnee

Perkins

Phelps

Pierce

Platte

Polk

Red Willow

Richardson

Rock

Saline

Saunders

Seward

Sherman

Stanton

Thayer

Thomas

Thurston

Valley

Washington

Wayne

Webster

Wheeler

York

Iowa:

Adams

Audubon

Buena Vista

Cass

Cherokee

Clay

Crawford

Fremont

Harrison

Ida

Mills

Monona

Montgomery

O'Brien

Page

Palo Alto

Plymouth

Pocahontas

Sac

Shelby

Sioux

Taylor

Woodbury

South Dakota:

Union

* * * * *

NEW YORK

* * * * *

New York

Survey Area

New York:

Bronx

Kings

Nassau

New York

Queens

Suffolk

Westchester

New Jersey:

Bergen

Essex

Hudson

Middlesex

Morris

Passaic

Somerset

Union

Area of Application. Survey Area Plus

New York:

Putnam

Richmond

Rockland

New Jersey:

Hunterdon

Monmouth

Ocean (Excluding the Fort Dix Military Reservation)

Sussex

Pennsylvania:

Pike

* * * * *

PENNSYLVANIA

* * * * *

Philadelphia

Survey Area

Pennsylvania:

Bucks

Chester

Delaware

Montgomery

Philadelphia

New Jersey:

Burlington

Camden

Gloucester

Area of Application. Survey Area Plus

Pennsylvania:

Carbon

Lehigh

Northampton

New Jersey:

Atlantic

Cape May

Cumberland

Mercer

Ocean (Fort Dix Military Reservation only)

Warren

* * * * *

Scranton-Wilkes-Barre

Survey Area

Pennsylvania:

Lackawanna

Luzerne

Monroe

Area of Application. Survey Area Plus

Pennsylvania:

Bradford

Columbia

Lycoming (Excluding Allenwood Federal Prison Camp)

Sullivan

Susquehanna

Wayne

Wyoming

* * * * *

SOUTH DAKOTA

Eastern South Dakota

Survey Area

South Dakota:

Minnehaha

Area of Application. Survey Area Plus

South Dakota:

Aurora

Beadle

Bennett

Bon Homme

Brookings

Brown

Brule

Buffalo

Campbell

Charles Mix

Clark

Clay

Codington

Corson

Davison

Day

Deuel

Dewey

Douglas

Edmunds

Faulk

Grant

Gregory

Haakon

Hamlin

Hand

Hanson

Hughes

Hutchinson

Hyde

Jerauld

Jones

Kingsbury

Lake

Lincoln

Lyman

McCook

McPherson

Marshall

Mellette

Miner

Moody

Potter

Roberts

Sanborn

Spink

Stanley

Sully

Todd

Tripp

Turner

Walworth

Washabaugh

Yankton

Ziebach

Iowa:

Dickinson

Emmet

Lyon

Osceola

Minnesota:

Jackson

Lincoln

Lyon

Murray

Nobles

Pipestone

Rock

* * * * *

VIRGINIA

* * * * *

Richmond

Survey Area

Virginia (cities):

Colonial Heights

Hopewell

Petersburg

Richmond

Virginia (counties):

Charles City

Chesterfield

Dinwiddie

Goochland

Hanover

Henrico

New Kent

Powhatan

Prince George

Area of Application. Survey Area Plus

Virginia (cities):

Charlottesville

Emporia

Virginia (counties):

Albemarle

Amelia

Brunswick

Buckingham

Caroline

Charlotte

Cumberland

Essex

Fluvanna

Greensville

King and Queen

King William

Lancaster

Louisa

Lunenberg

Mecklenburg

Middlesex

Northumberland

Nottoway

Orange

Prince Edward

Richmond

Sussex

Westmoreland

* * * * *

WISCONSIN

* * * * *

Milwaukee

Survey Area

Wisconsin:

Milwaukee

Ozaukee

Washington

Waukesha

Area of Application. Survey Area Plus

Wisconsin:

Brown

Calumet

Door

Fond du Lac

Kewaunee

Manitowoc

Outagamie

Racine

Sheboygan

Walworth

Winnebago

[FR Doc. E9-528 Filed 1-13-09; 8:45 am]

BILLING CODE 6325-39-P